DEPARTMENT OF VETERANS AFFAIRS

[OMB Control No. 2900-NEW]

Agency Information Collection (Servicemember Group Life Insurance (SGLI) Disability Extension Application); Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before July 30, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-NEW (Servicemember Group Life Insurance (SGLI) Disability Extension Application) in any correspondence.”

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-NEW (Servicemember Group Life Insurance (SGLI) Disability Extension Application).”

SUPPLEMENTARY INFORMATION:

Title: Servicemember Group Life Insurance (SGLI) Disability Extension Application, SGLV 8715.

OMB Control Number: 2900-NEW.

Type of Review: New collection.

Abstract: SGLI covered members who are totally disabled when released or separated from such service are entitled to a free extension of their SGLI coverage for the period of their total disability or two years, whichever ends first. This form is needed prior to expiration of the regulatory time periods so that totally disabled Veterans can apply for this free insurance benefit as soon as possible and receive an extension of their SGLI coverage in order to protect their beneficiaries in the event of their death. The information requested is authorized by law, 38 U.S.C. 1966(a), 1967(a), 38 U.S.C. 1968(a)(1)-(4).

An agency may not conduct or sponsor, and a person is not required to respond to a collection of information unless it displays a currently valid OMB control number. The Federal Register Notice with a 60-day comment period soliciting comments on this collection of information was published on April 7, 2014, at page 19175.

Affected Public: Individuals or households

Estimated Annual Burden: 2,083 hours.

Estimated Average Burden per Respondent: 25 minutes.

Frequency of Response: One time.

Estimated Number of Respondents: 5,000.

Dated: June 24, 2014.
By direction of the Secretary.
Crystal Rennie,
Department Clearance Officer, Department of Veterans Affairs.

[FR Doc. 2014-15126 Filed 6-27-14; 8:45 am]

BILLING CODE 8320-01-P